DEPARTMENT OF LABOR

Mine Safety and Health Administration

Petitions for Modification

The following parties have filed petitions to modify the application of existing safety standards under section 101(c) of the Federal Mine Safety and Health Act of 1977.

1. San Juan Coal Company

[Docket No. M-2003-047-C]

San Juan Coal Company, 1001 Pennsylvania Avenue, NW, Washington, DC 20004-2595 has filed a petition to modify the application of 30 CFR 75.321(a)(1) (Air quality) to its San Juan South Underground Mine (MSHA I.D. No. 29-02170) located in San Juan County, New Mexico. The petitioner requests a modification of the existing standard to permit oxygen levels below 19.5% in the tailgate entry adjacent to the last shield on the longwall face in the San Juan South Underground Mine to eliminate air quality, and rib and roof fall hazards to the miners in lieu of adjusting ventilation controls in the affected area if less than 19.5% oxygen is detected there. The petitioner asserts that application of the existing standard would result in a diminution of safety to the miner and that the proposed alternative method would provide at least the same measure of protection as the existing standard.

2. Snyder Coal Company

[Docket No. M-2003-048-C]

Snyder Coal Company, 66 Snyder Lane, Hegins, Pennsylvania 17938 has filed a petition to modify the application of 30 CFR 75.381 (Escapeways; anthracite mines) to its Rattling Run Slope (MSHA I.D. No. 36-08713) located in Schuylkill County, Pennsylvania. The petitioner requests a modification of the existing standard to permit two separate travelable passageways designated as escapeways in lieu of two travelable passageways designated as escapeways that must be on distinct air courses. The petitioner asserts that the proposed alternative method would provide at least the same measure of protection as the existing standard.

3. Drummond Company, Inc.

[Docket No. M-2003-049-C]

Drummond Company, Inc., PO Box 10246, Birmingham, Alabama 35202 has filed a petition to modify the application of 30 CFR 75.507 (Power connection points) to its Shoal Creek Mine (MSHA I.D. No. 01-02901) located in Jefferson County, Alabama. The petitioner proposes to use 4,160-volt, three-phase, alternating current deepwell submersible pumps in boreholes in it Shoal Creek Mine. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before August 7, 2003. Copies of these petitions are available for inspection at that address.

Dated at Arlington, VA, this 30th day of June 2003.
Marvin W. Nichols, Jr.,
Director, Office of Standards, Regulations, and Variances.

[FR Doc. 03-17138 Filed 7-7-03; 8:45 am]

BILLING CODE 4510-43-P